DEPARTMENT OF HEALTH AND HUMAN SERVICES

Centers for Disease Control and Prevention

[30Day-10-09BV]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Workload Management Study of Central Cancer Registries—New—National Center for Chronic Disease Prevention and Health Promotion (NCCDPHP), Centers for Disease Control and Prevention (CDC).

Background and Brief Description

CDC currently supports the National Program of Cancer Registries (NPCR), a group of central cancer registries in 45 states, the District of Columbia, and 2 territories. The central cancer registries are data systems that collect, manage, and analyze data about cancer cases and cancer deaths. NPCR-funded central cancer registries submit population-based cancer incidence data to CDC on an annual basis (OMB No. 0920-0469, exp. 11/30/2012).

Central cancer registries report that they are chronically understaffed, and many registries are concerned about the impact of staff shortages on data quality. Staffing patterns are known to vary widely from registry to registry, and registries differ in the volume of cases that they process as well as their use of information technology. Cancer registries have asked for clear staffing guidelines based on registry characteristics such as size, degree of automation, and reporting procedures.

CDC proposes to conduct a one-time Workload and Time Management (WLM) Survey to inform the development of staffing guidelines for central cancer registries. Respondents will be 46 cancer registrars in the NPCR-funded central cancer registries in 45 states and the District of Columbia. Participation will be requested by e-mail. Non-responders will receive follow-up telephone calls to encourage participation.

The WLM survey includes basic questions about registry characteristics such as organizational affiliation and number of staff. The WLM also includes questions about the caseload for the registry (the number of new cancer cases reported annually), the sources of case information, whether case information is collected utilizing manual or electronic methods, and the type of software employed for electronic collection. Because many tasks can be performed manually or using electronic methods, and because cancer coding systems are frequently revised to reflect changes in cancer diagnosis and care, the WLM survey asks registry managers to identify training needs that would improve registry productivity, and to provide comments about other resource needs and management issues.

The web-based WLM Survey will also collect information about the total amount of time dedicated by registry staff to specific activities such as case finding, records abstraction, follow-up, quality assurance, professional development, travel, and death clearances. In order to complete this section of the WLM survey, detailed information will be collected from registry staff. An average of eight registrars in each registry will be asked to maintain a paper Work Activities Journal for a one-week period. Each registrar will record the number of hours and minutes dedicated to case finding, records abstraction, follow-up, and quality assurance, and where applicable, indicate whether tasks were conducted manually or electronically. In addition, each registrar will estimate the amount of time dedicated to auditing, database management, professional development, travel, and death clearances on a monthly or annual basis. At the end of the one-week data collection period, the registry manager will compile information from all of the Work Activities Journals completed by the registry's staff. The aggregate information will be reported to CDC through the WLM Survey. The individual Work Activities Journals will not be submitted to CDC.

Findings from the WLM survey will enable CDC to assess the workforce necessary for meeting data reporting requirements and to estimate the impact of planned changes to surveillance data reporting. CDC plans to develop guidance so that cancer registry managers can more effectively measure workload, evaluate the need for staff and staff credentials, and advocate for adequate staffing.

OMB approval is requested for one year. Participation in the survey is voluntary. There are no costs to respondents other than their time. The total estimated annualized burden hours are 921.

Estimated Annualized Burden Hours
Type of respondents | Form name | Number of respondents | Number of responses per respondent | Average burden per response (in hours)
NPCR managers | Workload and Time Management Survey | 46 | 1 | 4
| Telephone Reminder | 15 | 1 | 3/60
NPCR Staff Registrars | Work Activities Journal | 368 | 1 | 2

Dated: August 23, 2010.
Maryam I. Daneshvar,
Reports Clearance Officer, Centers for Disease Control and Prevention.

[FR Doc. 2010-21496 Filed 8-27-10; 8:45 am]

BILLING CODE 4163-18-P